DEPARTMENT OF ENERGY

Federal Energy Regulatory Commission

[Docket No. IC00-547-001, FERC-547]

Information Collection Submitted for Review and Request for Comments

February 12, 2001.

AGENCY: Federal Energy Regulatory Commission.

ACTION: Notice of submission for review of the Office of Management and Budget (OMB) and request for comments.

SUMMARY: The Federal Energy Regulatory Commission (Commission) has submitted the energy information collection listed in this notice to the Office of Management and Budget (OMB) for review under the provisions of Section 3507 of the Paperwork Reduction Act of 1995 (Pub. L. 104-13). Any interested person may file comments on the collection of information directly with OMB and should address a copy of those comments to the Commission as explained below. The Commission did not receive comments in response to an earlier Federal Register notice of September 5, 2001 (65 FR 53708-09) and has made a notation in this submission.

DATES: Comments regarding this collection are best assured of having their full effect if received on or before March 19, 2001.

ADDRESSES: Address comments to the Office of Management and Budget, Office of Information and Regulatory Affairs, Attention: Federal Energy Regulatory Commission Desk Officer, 725 17th Street, NW., Washington DC 20503. A copy of the comments should also be sent to Federal Energy Regulatory Commission, Office of the Chief Information Officer, Attention: Mr. Michael Miller, CI-1, 888 First Street NE., Washington, DC 20426. Mr. Miller may be reached by telephone at (202) 208-1415, by fax at (202) 208-2425, and by e-mail at mike.miller@ferc.fed.us.

SUPPLEMENTARY INFORMATION:

Description

The energy information collection submitted to OMB for review contains:

1. Collection of Information: FERC-547 “Gas Pipeline Rates: Refund Report Requirements.”

2. Sponsor: Federal Energy Regulatory Commission.

3. Control No.: 1902-0084. The Commission is requesting reinstatement, without change, of the previously approved data collection for which approval expired July 31, 2000, and a three-year approval of the collection of data. This is a mandatory information collection requirement.

4. Necessity of Collection of Information: Submission of the information is necessary to enable the Commission to carry out its responsibilities in implementing provisions of Section 4, 5, and 16 of the Natural Gas Act (NGA). Refund Reports are required to carry out the refund obligation policy in Section 4(e) of the NGA. Refunds are created due to the difference between pipeline rates collected and subject to refund and firm rates set by the Commission. The refunds are flowed through by the following means: (a) Pursuant to settlement agreements, and (b) legal requirements. The Commission uses the data to insure the pass-through to gas consumers of refunds that are required to correct rates charged by pipelines. The data provided by the respondents are used to monitor the progress that is being made to make those refunds and to assure that refunds are being made in compliance with the Commission's regulatory functions. The Commission is committed to insuring that refunds owed by pipelines, to their customers are made as expeditiously as possible, in order to hasten their ultimate pass-through to residential customers and other end-users. The data required to be filed for the refund report is specified by 18 Code of Federal Regulations (CFR) 154.501.

(5) Respondent Description: The respondent universe currently comprises approximately 75 natural gas pipeline companies.

6. Estimated Burden: 5,625 total burden hours, 75 respondents, 75 responses annually, 1 hour per response.

Authority: Sections 4, 5 and 16 of the NGA (15 U.S.C. 717-717w).

Linwood A. Watson, Jr.,
Acting Secretary.

[FR Doc. 01-3911 Filed 2-15-01; 8:45 am]

BILLING CODE 6717-01-M